DEPARTMENT OF THE INTERIOR

Fish and Wildlife Service

[FWS-R8-FAC-2015-N163]; [FRFR48370810680-XXX-FF08F00000]

Delta Research Station, Sacramento, CA; Draft Environmental Impact Report/Environmental Impact Statement, and Announcement of Public Meetings

AGENCY: Fish and Wildlife Service, Interior.

ACTION: Notice of availability; request for comments.

SUMMARY: This notice announces the availability of the Delta Research Station Draft Environmental Impact Report/Environmental Impact Statement (EIR/EIS) for public review and comment. The Draft EIR/EIS evaluates impacts regarding construction and operation of the Delta Research Station (DRS) in the San Francisco Bay/Sacramento-San Joaquin Delta Estuary (Bay-Delta), California. The planned DRS would consist of two facilities, a proposed Estuarine Research Station (ERS) and Fish Technology Center (FTC). The U.S. Fish and Wildlife Service (USFWS) is the lead Federal agency responsible for coordinating the environmental analysis for the proposed action under the National Environmental Policy Act (NEPA). The California Department of Water Resources (DWR) is the lead State agency responsible for coordinating the environmental analysis under the California Environmental Quality Act (CEQA).

DATES: Comments on the Draft EIR/EIS must be received or postmarked by 5 p.m. Pacific Time on December 14, 2015. Two public meetings will be held to receive comments on the Draft EIR/EIS. See the SUPPLEMENTARY INFORMATION section for meeting dates and times. The public meetings are physically accessible to people with disabilities. Requests for reasonable accommodations (e.g., auxiliary aids or sign language interpretation) should be directed to Michael Stevenson of Horizon Water & Environment at (510) 986-1852, at least 5 working days prior to the applicable meeting date.

ADDRESSES: To view or download the Draft EIR/EIS, or for a list of locations to view hard-bound copies, go to www.deltaresearchstation.com.

You may submit written comments by one of the following methods:

1. By email: Submit comments to comments@deltaresearchstation.com.

2. By hard-copy: Submit comments by U.S. mail or by hand-delivery, to USFWS, Attn: Barbara Beggs, 650 Capitol Mall Suite 8-300, Sacramento, CA 95814.

For how to view comments on the EIS from the Environmental Protection Agency (EPA), or for information on EPA's role in the EIS process, see EPA's Role in the EIS Process under SUPPLEMENTARY INFORMATION.

FOR FURTHER INFORMATION CONTACT: Barbara Beggs, USFWS, at 916-930-5603.

SUPPLEMENTARY INFORMATION:

Introduction

With this notice, we continue the process for developing a DRS, which we began by publishing a notice of intent for scoping in the Federal Register on December 10, 2014 (79 FR 73332). In addition to this notice of the draft EIR/EIS, EPA is publishing a notice announcing the draft EIS, as required under section 309 of the Clean Air Act (42 U.S.C. 7401 et seq.). The publication of EPA's notice is the official start of the minimum requirement for a 45-day public comment period for an EIS (see EPA's Role in the EIS Process under SUPPLEMENTARY INFORMATION).

Background

The proposed DRS would consolidate ongoing Interagency Ecological Program (IEP) research and monitoring activities throughout the Bay-Delta and provide facilities for study and production of endangered Delta fishes. Currently, the IEP has approximately 145 State and Federal employees who conduct research throughout the Bay-Delta. The IEP collaboratively monitors, researches, models, and synthesizes critical information for adaptive management water project operations, planning, and regulatory purposes relative to the aquatic ecosystem in the Bay-Delta. USFWS and DWR plan to construct the DRS in a centrally located area within the Bay-Delta, and the facilities are expected to enhance interagency coordination and collaboration.

Purpose

The purpose of the DRS is to enhance interagency coordination and collaboration by developing a shared research facility. Currently, Federal and State agency staff working on similar Bay-Delta issues are distributed among different locations that are often remote from the Bay-Delta. Construction and operation of the DRS would reduce travel times and costs and improve research and monitoring activity efficiency. The ERS would consolidate existing IEP programs currently located throughout the Delta, and the FTC would house a new program to develop and apply captive fish propagation technologies in support of population restoration.

The specific objectives of each component of the DRS are as follows:

ERS—

—Establish a research station in a central location within the Bay-Delta to facilitate conducting monitoring and research; and

—Co-locate the research station with a facility capable of studying fish in captivity (i.e., the FTC); and

—Provide facilities to conduct monitoring and research on the Bay-Delta's aquatic resources.

FTC—

—Develop captive propagation technologies for the Bay-Delta's rare fish species;

—Test and refine the captive propagation techniques;

—Locate the facility where suitable water quality and quantity are available, and ability to discharge waste water is available, given the facility's various functions and operations; and

—Co-locate the FTC with a facility conducting conservation research on Bay-Delta rare fish species (i.e., the ERS).

Project Area

Two alternative locations are evaluated in the Draft EIR/EIS: The Rio Vista Army Reserve Center (RVARC) site in the City of Rio Vista and a site located at 845 Ryde Avenue in the City of Stockton (Ryde Avenue site).

Project Overview

The Draft EIR/EIS analyzes three action alternatives, as well as the No Project Alternative.

The No Project Alternative would be a continuation of existing conditions.

For the action alternatives, certain components would be the same for all alternatives. For the ERS, these include provision of office space; boat storage facilities, including a marina; a boat/equipment wash facility; laboratory facilities; shop space; and a storage building. For the FTC, common components include three buildings with aquaculture and research components for the study of individual fish species; an office and administrative building; a shop and vehicle storage building; a surface water intake and groundwater wells, a surface water treatment facility, and an effluent treatment system.

As required by NEPA, the Draft EIR/EIS identifies direct, indirect, and cumulative effects, and possible mitigation for those effects, on biological resources, land use, air quality, water resources, socioeconomics, environmental justice, cultural resources, and other environmental resources that could occur with implementation of each alternative. A summary of each alternative is provided below.

No Project Alternative: Under this alternative, no DRS facilities would be built and existing IEP activities would continue at their current locations. Some of the existing IEP activities that would continue to operate from various offices are fish population estimates, net surveys, and estuarine and marine fish abundance and distribution surveys. No FTC would be built.

Alternative 2: This alternative would be located at the RVARC site on the southern edge of Rio Vista. Alternative 2 is the preferred alternative of DWR and USFWS, and would include all of the components described above for the action alternatives. Under Alternative 2, development of ERS and FTC facilities would be consolidated in the predominantly undeveloped portions of the site, and the marina would be established in the Sacramento River at the southeastern end of the site. The development footprint would be approximately 14 acres. Several existing buildings at the RVARC would be demolished.

Alternative 3: Alternative 3 would include all of the components described above, and would also be located at the RVARC site. The development footprint under Alternative 3 would be approximately 18 acres. Alternative 3 would demolish or repurpose some existing buildings situated adjacent to the Sacramento River. The marina and other ERS facilities would be constructed within the northern and northeastern portions of the site. In contrast with Alternative 2, the marina would be excavated in an upland portion of the site.

Alternative 4: Alternative 4 would be located at 845 Ryde Avenue in Stockton. This alternative would include all of the components described above. No existing buildings are located at the Ryde Avenue site, so no buildings would be demolished or repurposed. Similar to Alternative 3, the marina would be excavated in an upland portion of the site.

NEPA Compliance

We are conducting environmental review in accordance with the requirements of NEPA, as amended (42 U.S.C. 4321 et seq.), its implementing regulations (40 CFR part 1500 et seq.), other applicable regulations, and our procedures for compliance with those regulations. The Draft EIR/EIS discusses the direct, indirect, and cumulative impacts of the alternatives on biological resources, cultural resources, water quality, and other environmental resources. Measures to minimize adverse environmental effects are identified and discussed in the Draft EIR/EIS.

EPA's Role in the EIS Process

The EPA is charged under section 309 of the Clean Air Act to review all Federal agencies' EISs and to comment on the adequacy and the acceptability of the environmental impacts of proposed actions in the EISs.

EPA also serves as the repository (EIS database) for EISs prepared by Federal agencies and provides notice of their availability in the Federal Register. The EIS database provides information about EISs prepared by Federal agencies, as well as EPA's comments concerning the EISs. All EISs are filed with EPA, which publishes a notice of availability on Fridays in the Federal Register.

For more information, see http://www.epa.gov/compliance/nepa/eisdata.html. You may search for EPA comments on EISs, along with EISs themselves, at https://cdxnodengn.epa.gov/cdx-enepa-public/action/eis/search.

Public Meeting Information

Two public meetings will be held to provide an overview of the project and allow public comment and discussion. Meeting dates, times, and locations will be announced in local media and at www.deltaresearchstation.com.

Public Comments

This notice is provided pursuant to NEPA. Submitting timely comments to the email and hard-copy addresses identified in the ADDRESSES section of this notice will also constitute effective filing of the CEQA comments on the EIR portion of the Draft EIR/EIS. USFWS is publishing this notice to allow other agencies and the public an opportunity to review and comment on this document. All comments received will become part of the public record for this action. Comments on the Draft EIR/EIS should be submitted to the address listed in the ADDRESSES section of this document. Comments submitted to the above address will be reviewed and considered by all of the lead agencies.

Public Availability of Comments

Before including your address, phone number, email address, or other personal identifying information in your comment, you should be aware that your entire comment—including your personal identifying information—may be made publicly available at any time. While you may ask us in your comment to withhold your personal identifying information from public review, we cannot guarantee that we will be able to do so.

Next Steps

The lead agencies will compile and review all public comments on the Draft EIR/EIS submitted to them prior to preparation of a Final EIR/EIS.

Alexandra Pitts,
Deputy Regional Director, Pacific Southwest Region, Fish and Wildlife Service.

[FR Doc. 2015-27683 Filed 10-29-15; 8:45 am]

BILLING CODE 4333-15-P